DEPARTMENT OF TRANSPORTATION

Federal Aviation Administration

14 CFR Part 39

[Docket No. FAA-2013-0013; Directorate Identifier 2012-CE-046-AD]

RIN 2120-AA64

Airworthiness Directives; GROB-WERKE Airplanes

AGENCY: Federal Aviation Administration (FAA), DOT.

ACTION: Proposed rule; correction.

SUMMARY: The FAA is correcting a Notice of Proposed Rulemaking (NPRM) that published in the Federal Register. That NPRM applies to all GROB-WERKE Model G115EG airplanes. The docket number in the preamble and in the section titled PART 39—AIRWORTHINESS DIRECTIVES, paragraph 2, is incorrect. This document corrects that error. In all other respects, the original document remains the same.

DATES: The last date for submitting comments to the NPRM (78 FR 2910, January 15, 2013) remains March 1, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION: Notice of Proposed Rulemaking (NPRM), Directorate Identifier 2012-CE-046-AD (78 FR 2910, January 15, 2013), currently proposes to require inspections of the elevator trim tab arms for cracks and replacement if necessary.

As published, the docket number in the preamble and in the section titled PART 39—AIRWORTHINESS DIRECTIVES, paragraph 2, is incorrect.

No other part of the preamble or regulatory information has been changed; therefore, only the changed portion of the NPRM is being published in the Federal Register.

The last date for submitting comments to the NPRM remains March 1, 2013.

Correction of Non-Regulatory Text

In the Federal Register of January 15, 2013, Directorate Identifier 2012-CE-046-AD is corrected as follows:

On page 2910, in the 2nd column, on line 4 under the preamble (below DEPARTMENT OF TRANSPORTATION), change Docket No. to “FAA-2013-0013.”

Correction of Regulatory Text

§ 39.13 [Corrected]

In the Federal Register of January 15, 2013, on page 2911, in the 3rd column, on line 20, in paragraph (2) under PART 39—AIRWORTHINESS DIRECTIVES of Directorate Identifier 2012-CE-046-AD is corrected to read as follows:

* * * * *

* * * “FAA-2013-0013;”

* * * * *

Issued in Kansas City, Missouri, on January 28, 2013.
Earl Lawrence,
Manager, Small Airplane Directorate, Aircraft Certification Service.

[FR Doc. 2013-02578 Filed 2-5-13; 8:45 am]

BILLING CODE 4910-13-P